BUREAU OF CONSUMER FINANCIAL PROTECTION

[Docket No. CFPB-2014-0022]

Proposed Language Access Plan for the Consumer Financial Protection Bureau

AGENCY: Bureau of Consumer Financial Protection.

ACTION: Notice of proposed plan with request for public comment.

SUMMARY: Consistent with Executive Order 13166 (Aug. 11, 2000), the Consumer Financial Protection Bureau (Bureau or CFPB) is committed to providing persons with limited English proficiency (LEP) meaningful access to its programs and services. The Language Access Plan describes the Bureau's policy and how the Bureau's current language access activities are implemented across all of the Bureau's operations, programs and services. The Bureau will review this plan every three years and revise it as necessary. The public is invited to comment on the Bureau's programs and activities available to LEP persons and on steps that the Bureau could take to ensure that LEP persons have meaningful access to such services.

DATES: Comments must be received on or before January 6, 2015 to be assured of consideration.

ADDRESSES: You may submit comments regarding the Proposed Language Access Plan, identified by title and by Docket No. CFPB-2014-0022, by any of the following methods:

• Electronic: http://www.regulations.gov. Follow the instructions for submitting comments.

• Mail: Consumer Financial Protection Bureau (Attention: Office of Financial Education), 1700 G Street NW., Washington, DC 20552.

• Hand Delivery/Courier: Consumer Financial Protection Bureau (Attention: Office of Financial Education), 1275 First Street NE., Washington, DC 20002.

Instructions: The Bureau encourages the early submission of comments. All submissions must include the document title and docket number. Because paper mail in the Washington, DC area and at the Bureau is subject to delay, commenters are encouraged to submit comments electronically. In general, all comments received will be posted without change to http://www.regulations.gov. In addition, comments will be available for public inspection and copying at 1275 First Street, NE., Washington, DC 20002, on official business days between the hours of 10 a.m. and 5 p.m. Eastern Standard Time. You can make an appointment to inspect the documents by telephoning 202-435-7275.

All submissions, including attachments and other supporting materials, will become part of the public record and subject to public disclosure. Do not include sensitive personal information such as account numbers or Social Security numbers. Comments will not be edited to remove any identifying or contact information, such as name and address information, email addresses, or telephone numbers.

FOR FURTHER INFORMATION CONTACT: For general inquiries, submission process questions or any additional information, please contact Monica Jackson, Office of the Executive Secretary, at 202-435-7275. For information about the Proposed Language Access Plan, please contact Dubis Correal, Office of Financial Education, at 202-435-7937.

SUPPLEMENTARY INFORMATION:

I. Background

The Dodd-Frank Wall Street Reform and Consumer Protection Act ¹ (Dodd-Frank Act) established the Bureau of Consumer Financial Protection. Section 1021 of the Dodd-Frank Act provides that the purpose of the Bureau is to “implement, and where applicable, enforce Federal consumer financial law consistently for the purpose of ensuring that all consumers have access to markets for consumer financial products and services and that markets for consumer financial products and services are fair, transparent, and competitive.” 12 U.S.C. 5511.

¹ Public Law 111-203, 124 Stat. 1376 (2010).

Listening and responding to consumers is central to the Bureau's purpose of ensuring that all consumers have access to consumer financial products and services. Since its inception, the Bureau has provided consumers with numerous ways to make their voices heard. Consumers nationwide have engaged with the Bureau through public field hearings, listening events, roundtables, town halls, the Bureau's Web site, consumerfinance.gov, and the Bureau's Consumer Response function. The Bureau has also sought input from a range of financial education stakeholders about challenges consumers face, effective tools in overcoming those challenges, and what the Bureau can do to improve the financial decision-making process of consumers to help them better navigate the marketplace of financial products and services.² This engagement strengthens the Bureau's understanding of current issues in the consumer financial marketplace and informs its work.

² See Consumer Financial Protection Bureau, Feedback From the Financial Education Field (May 13, 2013), http://files.consumerfinance.gov/f/201305_cfpb_OFE-request-for-information-report.pdf.

The Bureau understands that this engagement is incomplete without efforts to include Limited English Proficiency (LEP) persons (individuals who do not speak English as their primary language and who have a limited ability to speak, write, or understand English). According to a 2010 Census Report, there are over 24 million people in the United States who do not speak English “very well.” This includes people who classify themselves as speaking English “not well” and people who do not speak English at all. Studies by Federal agencies and other stakeholders have highlighted that receipt of materials in consumers' native languages is essential to increasing these consumers' knowledge about financial products and services.

For instance, a study conducted by the FDIC ³ found that households that include a foreign-born noncitizen or where Spanish is the only language spoken are less likely to participate in the mainstream banking system. Household members who speak English as a second language, or who cannot read English, are particularly disadvantaged in their ability to review and understand financial documents and other important notifications. The Federal Trade Commission and immigrant advocacy organizations have also noted that some populations with limited English language skills are more susceptible to fraudulent and predatory practices.⁴ Further, the Government Accountability Office (GAO) examined the extent to which individuals with limited English proficiency are impeded in their financial literacy and conduct of financial affairs. The GAO's report indicated that a lack of proficiency in English can create significant barriers to financial literacy and to conducting everyday financial affairs.⁵

³ Federal Deposit Insurance Corporation, 2011 FDIC National Survey of Unbanked and Underbanked Households (September 2013), http://www.fdic.gov/householdsurvey.

⁴ U.S. Government Accountability Office, Factors Affecting the Financial Literacy of Individuals with Limited English Proficiency, GAO-10-518 (May 21, 2010), http://www.gao.gov/products/GAO-10-518.

⁵ Id. at 3.

Consistent with Executive Order 13166 (Aug. 11, 2000) and the Bureau's mission, the Bureau proposes to adopt the Proposed Language Access Plan to address meaningful access to Bureau services for LEP persons. The Bureau invites public comment on the Proposed Language Access Plan and on related matters, as described below, that may be of interest to the LEP community.

II. Summary of Proposed Language Access Plan

The Bureau considered the following factors in drafting the proposed Language Access Plan: (1) The number or proportion of LEP persons who would not receive the Bureau's services absent efforts to remove language barriers; (2) The frequency and number of contacts by LEP persons with the Bureau's services; (3) The nature and importance of the services provided by the Bureau to people's lives; and (4) The resources available to the Bureau (including cost-benefit analysis) to provide services to LEP persons. Under the proposed Language Access Plan, the Bureau provides LEP individuals with access to information, services, activities, and programs through translating critical consumer-facing documents into select foreign languages and handling complaints from consumers about financial consumer products and services in over 180 languages. The Bureau invites public comment on the proposed Language Access Plan.

III. Related Matters of Interest

The public is invited to comment on the Bureau's programs and activities that are available to LEP persons and on steps the Bureau could take to ensure that LEP persons have meaningful access to such services. The Bureau will use the information gathered from this notice and other outreach efforts to improve access to these programs and activities.

A. Language Access Task Force. The Bureau has created and is committed to its Language Access Task Force, a cross-divisional working group aimed at developing and executing a Bureau-wide strategy to provide LEP consumers with meaningful access to information produced by the Bureau. The Task Force identifies and addresses barriers to language access, coordinates with internal and external stakeholders, ensures consistency within the Bureau in its communications with LEP individuals, and informs the Bureau's work to engage LEP consumers. The Bureau seeks public comment on how the Task Force can best accomplish these goals. The Task Force will consider any comments it receives in setting its agenda and priorities among these four activities. The Task Force also seeks public comment on how the Bureau can effectively make LEP consumers aware of consumer financial protections available to them in the financial marketplace.

B. Handling complaints from consumers about consumer financial products and services. The Bureau's Office of Consumer Response (Consumer Response) hears directly from consumers about the challenges they face in the marketplace and brings consumers' concerns to the attention of consumer financial product or service providers. Consumer Response currently accepts complaints about credit cards, mortgages, bank accounts and services, private student loans, vehicle and other consumer loans, credit reporting, money transfers, debt collection, payday loans, prepaid cards, credit repair and debt settlement services, title and pawn loans, and virtual currencies. The CFPB's contact centers can assist consumers with complaints in over 180 languages, and consumers have the option to receive written communications in Spanish. The contact centers also accept inquiries from consumers on various consumer financial products and services, as well as CFPB news and operations. The Bureau works to respond to consumer inquiries or refer consumers to other regulators and resources, as needed. The Bureau seeks comments on ways it can improve access to the CFPB consumer complaint system by the LEP community.

C. Incorporation of translation and interpretation in Bureau supervision and enforcement. The Bureau works to appropriately utilize translation and interpretation in the context of examinations and investigations. These services may be used for several purposes, for example interviews and other consultations with LEP consumer witnesses, whistleblowers, and employees of regulated entities; review of documents and recordings of phone calls; and with respect to critical settlement announcements. The Bureau seeks public comment on how to best incorporate translation and interpretation services in Bureau supervision and enforcement.

D. Informing and educating consumers in the financial marketplace. One of the Bureau's goals is to give consumers practical, actionable information about financial goals, decisions, products, and services to help consumers build the financial knowledge and skills that they need to make well-informed financial decisions for themselves and their families. For the LEP community, this includes access in consumers' native languages to consumer education materials. The Bureau offers free printed financial education materials translated into other languages for LEP consumers, which are distributed by both the Bureau and other stakeholders. To date, CFPB has routinely translated its most critical and frequently requested documents into Spanish (http://promotions.usa.gov/cfpbpubs.html). Certain publications are also available in Chinese, French, Haitian Créole, Tagalog, Chinese, Korean, and Vietnamese. The Bureau seeks comment on how to most effectively distribute printed financial education materials to LEP consumers.

E. Digital Offering in Other Languages. The Bureau has an interactive online tool titled “AskCFPB” that gives consumers answers to over 1,000 questions about financial products and services, including credit cards, mortgages, student loans, bank accounts, credit reports, payday loans, and debt collection. Ask CFPB is also available in Spanish. Additionally, consumers share the CFPB's information and communicate with the Bureau through Facebook and Twitter. The Bureau currently posts and responds to select messages in English and Spanish at facebook.com/cfpbandtwitter.com/cfpb. The Bureau seeks public comment on how to best provide valuable information to LEP communities online and through social media.

F. Outreach and stakeholder engagement. The Bureau works with key stakeholders within LEP communities to ensure consumers are aware of Bureau resources and tools. The Bureau seeks comment on ways that it can improve and enhance its outreach and stakeholder engagement. The Bureau also seeks comment on how LEP consumers' awareness of consumer protections affects their experience as consumers in the financial marketplace, and resources that LEP consumers utilize when navigating consumer financial products and services.

IV. Regulatory Requirements

This Proposed Language Access Plan articulates the Bureau's commitment to providing persons with limited English proficiency meaningful access to its programs and services. It is therefore exempt from the notice and comment rulemaking requirements under the Administrative Procedure Act pursuant to 5 U.S.C. 553(b).

Because no notice of proposed rulemaking is required, the Regulatory Flexibility Act does not require an initial or final regulatory flexibility analysis. 5 U.S.C. 603(a), 604(a).

The Bureau has determined that this Proposed Language Access Plan does not impose any new or revise any existing recordkeeping, reporting, or disclosure requirements on covered entities or members of the public that would be collections of information requiring OMB approval under the Paperwork Reduction Act, 44 U.S.C. 3501, et seq.

Proposed Language Access Plan

The text of the Proposed Language Access Plan follows:

Consistent with Executive Order 13166 (Aug. 11, 2000), this document establishes the Language Access Plan of the Consumer Financial Protection Bureau (Bureau or CFPB) for addressing meaningful access to CFPB services for Limited English Proficiency (LEP) persons (individuals who do not speak English as their primary language and who have a limited ability to speak, write, or understand English).

The CFPB is committed to improving the accessibility of its services to LEP persons. In developing its Language Access Plan, the CFPB engaged stakeholders to understand the opportunities to serve LEP persons and to ensure LEP individuals have access to the CFPB's programs and services.

To ensure meaningful access, the Bureau considers the following factors: (1) The number or proportion of LEP persons who would not receive the Bureau's services absent efforts to remove language barriers; (2) The frequency and number of contact by LEP persons with the Bureau's services; (3) The nature and importance of the services provided by the Bureau to people's lives; and (4) The resources available to the Bureau (including cost-benefit analysis) to provide services to LEP persons.

The CFPB provides LEP individuals with access to information, services, activities, and programs through the following activities:

1. Translating Consumer-Facing Documents

The Bureau translates critical consumer-facing documents into the most frequently encountered languages, as established by U.S. Census Bureau data or based on specific issues affecting a particular group of LEP individuals. The Bureau publishes a wider range of consumer-facing documents in Spanish than other frequently encountered languages.

Translating public-facing documents into the languages most frequently encountered ⁶ is important when reaching LEP individuals. Given that Hispanics constitute 16.7 percent of the nation's total population, making them the nation's largest ethnic or racial minority, and that 62 percent of people who speak a language other than English at home speak Spanish,⁷ the Bureau translates certain consumer-facing materials into Spanish. The CFPB has also translated brochures, fact sheets and other materials about certain topics into Chinese, French, French Créole, Korean, Tagalog, and Vietnamese. The Bureau audits translated materials to ensure quality and accuracy.

⁶ Language Used in The United States 2007—American Community Survey Report—U.S. Census Bureau. According to the 2012 American Community Survey Report from the U.S. Census Bureau, Spanish, Mandarin, French, Haitian Créole, Tagalog, Chinese, Korean and Vietnamese are the most common languages other than English that are spoken in the United States.

⁷ Language Used in The United States 2007—American Community Survey Report—U.S. Census Bureau.

2. Handling Complaints From Consumers About Consumer Financial Products and Services

The Bureau's Office of Consumer Response (Consumer Response) hears directly from consumers about the challenges they face in the marketplace and brings consumers' concerns to the attention of consumer financial product or service providers. Consumer Response currently accepts complaints about credit cards, mortgages, bank accounts and services, private student loans, vehicle and other consumer loans, credit reporting, money transfers, debt collection, payday loans, prepaid cards, credit repair and debt settlement services, title and pawn loans, and virtual currencies. The CFPB's contact centers can assist consumers with complaints in over 180 languages, and consumers have the option to receive written communications in Spanish. The contact centers also accept inquiries from consumers on various consumer financial products and services as well as CFPB news and operations. The Bureau works to respond to these inquiries or refers consumers to other regulators and resources, as needed.

Dated: September 25, 2014.
Richard Cordray,
Director, Bureau of Consumer Financial Protection.

[FR Doc. 2014-24122 Filed 10-7-14; 8:45 am]

BILLING CODE 4810-AM-P